DEPARTMENT OF AGRICULTURE

Forest Service

Notice of Resource Advisory Committee Meeting

AGENCY: Lassen Resource Advisory Committee, Susanville, California, and USDA Forest Service

ACTION: Notice of meeting.

SUMMARY: Pursuant to the authorities in the Federal Advisory Committees Act (Pub. L. 92-463) and under the Secure Rural Schools and Community Self-Determination Act of 2000 (Pub. L. 106-393) the Lassen National Forest's Lassen County Resource Advisory Committee will meet Wednesday, September 11, 2002, in Susanville, California for a business meeting. The meetings are open to the public.

SUPPLEMENTARY INFORMATION: The business meeting September 11th begins at 9 a.m., at the Lassen National Forest Headquarters Office, Caribou Conference Room, 2550 Riverside Drive, Susanville, CA 96130. Agenda topics will include; orientation, roles and responsibilities, working guidelines and election of committee chairperson, to meet the intent of Pub. L. 106-393. Time will also be set aside for public comments at the beginning of the meeting.

FOR FURTHER INFORMATION CONTACT: Contact Robert Andrews, Eagle Lake District Ranger and Designated Federal Officer, at (530) 257-4188; or Assistant Public Affairs Officer, Leona Rodreick, at (530) 257-2151.

Dated: July 24, 2002.
Edward C. Cole,
Forest Supervisor.

[FR Doc. 02-19162 Filed 7-29-02; 8:45 am]

BILLING CODE 3410-11-M